DEPARTMENT OF HOMELAND SECURITY

Transportation Security Administration

[Docket No. TSA-2011-0008]

Request for Applicants for Appointment to the Aviation Security Advisory Committee

AGENCY: Transportation Security Administration, Department of Homeland Security.

ACTION: Committee management; request for applicants.

SUMMARY: The Transportation Security Administration (TSA) requests that qualified individuals interested in serving on the Aviation Security Advisory Committee (ASAC) apply for appointment. All applicants must represent one of the constituencies specified below to be eligible for appointment and complete applications submitted, as required below, to be considered for appointment.

DATES: Applications for membership must be submitted to TSA, using one of the methods identified in the ADDRESSES section below, on or before July 3, 2025.

ADDRESSES: Applications must be submitted by one of the following means:

• Email: To ASAC@tsa.dhs.gov.

• Mail: Addressed to the individual identified under the FOR FURTHER INFORMATION CONTACT section.

FOR FURTHER INFORMATION CONTACT: Tamika McCree Elhilali, ASAC Designated Federal Officer, Transportation Security Administration (TSA-28), 6595 Springfield Center Drive, Springfield, VA 20598-6028, ASAC@tsa.dhs.gov, 202-595-4802.

SUPPLEMENTARY INFORMATION:

The Aviation Security Advisory Committee

The ASAC is an advisory committee established pursuant to 49 U.S.C. 44946. ASAC's mission is to provide advice and recommendations to the TSA Administrator on improving aviation security matters, including developing, refining, and implementing policies, programs, rulemakings, and security directives pertaining to aviation security, while adhering to sensitive security guidelines. The committee is composed of individual members representing 19 key constituencies affected by aviation security requirements, as defined at 49 U.S.C. 44946(c)(1)(C).

This request for applications is for the following membership categories:

1. Air carriers.

2. All-cargo air transportation.

3. Labor organizations representing air carrier employees.

4. Aircraft manufacturers.

5. Airport operators.

6. General aviation.

7. Travel industry.

8. Victims of terrorist acts against aviation.

9. Law enforcement and security experts.

10. Indirect air carriers.

11. Aviation security technology industry (including screening technology and biometrics).

12. Airport-based businesses.

13. Passenger advocacy groups.

14. Airport authorities and businesses that conduct security operations at airports.

15. Labor organizations representing transportation security officers.

16. Airport construction and maintenance contractors.

17. Labor organizations representing employees of airport construction and maintenance contractors.

18. Privacy organizations.

19. Aeronautical repair stations.

Unless otherwise noted, the ASAC does not have a specific number of members allocated to any membership category and the number of members in a category may change to fit the needs of the Committee. As required by the statute, however, individuals selected on the ASAC may not represent more than 34 member organizations.

Appointees will be designated as representative members. Representative members speak for the key constituency group they represent. Membership on ASAC is personal to the appointee and a member may not send an alternate to a Committee meeting. Pursuant to 49 U.S.C. 44946(c)(3), members shall not receive pay, allowances, or benefits from the Government by reason of their service on ASAC.

Application for Advisory Committee Appointment

TSA is seeking applications for the membership categories listed above. Any person wishing to be considered for appointment to ASAC must provide the following:

• Home and work addresses, telephone number(s), and email address.

• Complete professional resume.

• Statement of interest and reasons for application, including the membership category and how you represent a significant portion of that constituency and provide a brief explanation of how you can contribute to one or more TSA strategic initiatives, based on your prior experience with TSA, or your review of current TSA strategic documents that can be found at www.tsa.gov/about/strategy.

TSA will confirm receipt of your application and will notify you of the final status of your application once TSA selects members.

Committee Meetings

The ASAC typically convenes four times per year. Additional meetings may be held with the approval of the Designated Federal Official. While at least one meeting per year is open to the public, the other meetings are typically closed to the public due to the sensitive nature of the material discussed. In addition, members are expected to participate on ASAC subcommittees that typically meet more frequently to deliberate and discuss specific aviation matters.

Committee Membership

Committee members are appointed by, and serve at the pleasure of, the TSA Administrator for a 2-year term or until a successor is appointed.

Committee Membership Vetting

All applicants that are presented to the TSA Administrator for appointment to ASAC must successfully complete a Security Threat Assessment by TSA, as access to sensitive security information will be necessary. U.S. citizens and those meeting residency requirements will be vetted using TSA's Universal Enrollment Services, which includes the collection of biographic and biometric information to allow TSA to perform the Security Threat Assessment. Selected applicants will be offered a no-cost authorization code to complete the three-step Universal Enrollment Services process; which includes online pre-enrollment, coordinating a visit to an enrollment center, and the in-person visit to the enrollment center.

Non-U.S. applicants presented for appointment to ASAC will be required to complete additional vetting. This vetting will include the completion and submission of TSA Form 2816B form, which must be submitted at least 30 days before visiting TSA spaces.

Dated: May 28, 2025.
Eddie D. Mayenschein,
Assistant Administrator, Policy, Plans, and Engagement, Transportation Security Administration.

[FR Doc. 2025-09953 Filed 6-2-25; 8:45 am]

BILLING CODE 9110-05-P